NATIONAL CREDIT UNION ADMINISTRATION

Sunshine Act: Notice of Agency Meeting

TIME AND DATE: 10:00 a.m., Thursday, July 23, 2015.

PLACE: Board Room, 7th Floor, Room 7047, 1775 Duke Street (All visitors must use Diagonal Road Entrance), Alexandria, VA 22314-3428.

STATUS: Open.

MATTERS TO BE CONSIDERED:

1. National Credit Union Share Insurance Fund Quarterly Report.

2. NCUA Guaranteed Notes Performance Report, and Corporate Stabilization Fund Assessment Determination.

3. NCUA's Rules and Regulations, Capital Planning and Stress Testing Schedules.

4. NCUA Rules and Regulations, Federal Credit Union Ownership of Fixed Assets.

5. NCUA's 2015 Mid-Year Operating Budget Reprogramming.

RECESS: 11:30 a.m.

TIME AND DATE: 11:45 a.m., Thursday, July 23, 2015.

PLACE: Board Room, 7th Floor, Room 7047, 1775 Duke Street, Alexandria, VA 22314-3428.

STATUS: Closed.

MATTERS TO BE CONSIDERED:

1. Consideration of Supervisory Action. Closed pursuant to Exemptions (8), (9)(i)(B) and (9)(ii).

2. Personnel. Closed pursuant to Exemptions (2) and (6).

FOR FURTHER INFORMATION CONTACT: Gerard Poliquin, Secretary of the Board, Telephone: 703-518-6304.

Gerard Poliquin,
Secretary of the Board.

[FR Doc. 2015-17905 Filed 7-17-15; 11:15 am]

BILLING CODE 7535-01-P